DEPARTMENT OF DEFENSE

Office of the Secretary

32 CFR Part 199

[Docket ID: DOD-2009-HA-0096]

RIN 0720-AB34

TRICARE: Transitional Assistance Management Program (TAMP)

AGENCY: Office of the Secretary, Department of Defense.

ACTION: Final rule.

SUMMARY: The Department of Defense is publishing this final rule to implement section 4 of the Hubbard Actand section 734 of the Duncan Hunter National Defense Authorization Act for Fiscal Year 2009. These Acts provide two new categories of beneficiaries for the Transitional Assistance Management Program (TAMP). Specifically, a member who receives a sole survivorship discharge and a member who is separated from Active Duty who agrees to become a member of the Selected Reserve of the Ready Reserve of a reserve component are eligible for TAMP.

DATES: Effective Date: This rule is effective September 17, 2010.

FOR FURTHER INFORMATION CONTACT: Mr. Glenn J. Corn, TRICARE Management Activity, Medical Benefits and Reimbursement Branch, telephone (303) 676-3566. Questions regarding payment of specific claims should be addressed to the appropriate TRICARE contractor.

SUPPLEMENTARY INFORMATION:

I. Background

In the Federal Register of November 27, 2009, (74 FR 62269), the Office of the Secretary of Defense published for public comment a proposed rule establishing two new eligibility categories under TAMP. The TAMP benefit provides continued TRICARE coverage for a period of 180 days. For those who qualify, the 180 day time frame begins upon the Active Duty member's separation.

II. Explanation of Provisions

Public Law 110-317 amended section 1145(a)(2) of title 10, U.S.C. by adding “a member who receives a sole survivorship discharge (as defined in section 1174(i) of this title)” as an additional category of TAMP eligible. The provision is effective August 29, 2008.

Public Law 110-471 amended section 1145(a)(2) of title 10, U.S.C. by adding “A member who is separated from Active Duty who agrees to become a member of the Selected Reserve of the Ready Reserve of a reserve component.” This provision is effective October 14, 2008.

This final rule establishes these two new eligibility categories under TAMP.

III. Public Comments

We provided a 60-day public comment period following publication of the Proposed Rule in the Federal Register (74 FR 62269) on November 27, 2009. No comments were received.

IV. Regulatory Procedures

Executive Order 12866, “Regulatory Planning and Review”

Section 801 of Title 5, United States Code (U.S.C.), and Executive Order (E.O.) 12866 require certain regulatory assessments and procedures for any major rule or significant regulatory action, defined as one that would result in an annual effect of $100 million or more on the national economy or which would have other substantial impacts. It has been certified that this rule is not an economically significant rule; however, it is a regulatory action which has been reviewed by the Office of Management and Budget as required under the provisions of E.O. 12866.

Section 202, Public Law 104-4, “Unfunded Mandates Reform Act”

It has been certified that this rule does not contain a Federal mandate that may result in the expenditure by State, local and Tribal governments, in aggregate, or by the private sector, of $100 million or more in any one year.

Public Law 96-354, “Regulatory Flexibility Act” (5 U.S.C. 601)

The Regulatory Flexibility Act (RFA) requires each Federal agency prepare, and make available for public comment, a regulatory flexibility analysis when the agency issues a regulation which would have a significant impact on a substantial number of small entities. This rule will not significantly affect a substantial number of small entities for purposes of the RFA.

Public Law 96-511, “Paperwork Reduction Act” (44 U.S.C. Chapter 35)

This rule will not impose significant additional information collection requirements on the public under the Paperwork Reduction Act of 1995 (44 U.S.C. 3501-3511). Existing information collection requirements of the TRICARE and Medicare programs will be utilized.

Executive Order 13132, “Federalism”

This rule has been examined for its impact under E.O. 13132 and does not contain policies that have federalism implications that would have substantial direct effects on the States, on the relationship between the national government and the States, or on the distribution of power and responsibilities among the various levels of government; therefore, consultation with State and local officials is not required.

List of Subjects in 32 CFR Part 199

Claims, Dental health, Health care, Health insurance, Individuals with disabilities, Military personnel.

Accordingly, 32 CFR part 199 is amended as follows:

PART 199—[AMENDED]

1. The authority citation for part 199 continues to read as follows:

Authority: 5 U.S.C. 301; 10 U.S.C. Chapter 55.

2. Section 199.3 is amended by adding paragraphs (e)(1)(v) and (e)(1)(vi) to read as follows:

§ 199.3 Eligibility.

* * * * *

(e) * * *

(1) * * *

(v) A member who receives a sole survivorship discharge (as defined in section 1174(i) of this title).

(vi) A member who is separated from Active Duty who agrees to become a member of the Selected Reserve of the Ready Reserve of a reserve component.

* * * * *

Dated: August 10, 2010.
Patricia L. Toppings,
OSD Federal Register Liaison Officer, Department of Defense.

[FR Doc. 2010-20393 Filed 8-17-10; 8:45 am]

BILLING CODE 5001-06-P